DEPARTMENT OF COMMERCE

International Trade Administration

[A-570-601]

Tapered Roller Bearings and Parts Thereof, Finished and Unfinished, From the People's Republic of China: Notice of Court Decision Not in Harmony With Final Results of Antidumping Duty Administrative Review; and Amended Final Results of Antidumping Duty Administrative Review; 2015-2016

AGENCY: Enforcement and Compliance, International Trade Administration, Department of Commerce.

SUMMARY: On December 18, 2019, the United States Court of International Trade (the Court) sustained the final results of redetermination pertaining to the antidumping duty (AD) administrative review of tapered roller bearings and parts thereof, finished and unfinished (TRBs), from the People's Republic of China (China) covering the period of review (POR) from June 1, 2015 through May 31, 2016. The Department of Commerce (Commerce) is notifying the public that the final judgment in this case is not in harmony with the Final Results in the 2015-2016 administrative review of TRBs from China, and that Commerce is amending the Final Results with respect to the assignment of a separate rate to Zhejiang Zhaofeng Mechanical and Electronic Co., Ltd. (Zhaofeng).

DATES: Applicable December 28, 2019.

FOR FURTHER INFORMATION CONTACT: Andrew Medley or Alex Wood, Enforcement and Compliance, International Trade Administration, U.S. Department of Commerce, 1401 Constitution Avenue NW, Washington, DC 20230; telephone: (202) 482-4987 or (202) 482-1959, respectively.

SUPPLEMENTARY INFORMATION:

Background

On January 10, 2018, Commerce published the Final Results of the 2015-2016 AD administrative review of TRBs from China, in which Commerce determined that Zhaofeng was not eligible for a separate rate because it had misrepresented its reported U.S. sales data.¹ The Final Results were appealed to the Court by Zhaofeng, and on December 27, 2018, the Court held that Commerce had not adequately explained how Zhaofeng's misrepresentations of its sales data related to Commerce's separate rate analysis of whether Zhaofeng was independent of government control, and remanded the Final Results for a redetermination consistent with the Court's opinion.² In accordance with the Court's Remand Order, Commerce assigned Zhaofeng a separate rate and applied adverse facts available for Zhaofeng's misrepresentations of its U.S. sales data and its failure to cooperate to the best of its ability, applied the highest previously calculated dumping margin to Zhaofeng, 92.84 percent.³ On December 18, 2019, the Court sustained Commerce's Remand Redetermination.⁴ Therefore, the effective date of this notice is December 28, 2019.

¹ See Tapered Roller Bearings and Parts Thereof, Finished and Unfinished, from the People's Republic of China: Final Results of Antidumping Duty Administrative Review, and Rescission of New Shipper Review; 2015-2016, 83 FR 1238 (January 10, 2018) (Final Results), and accompanying Issues and Decision Memorandum (IDM) at Comments 1 and 2.

² See Zhejiang Zhaofeng Mechanical and Electric Co., Ltd. v. United States, 355 F. Supp. 3d 1329, 1333-1335 (CIT December 27, 2018) (Remand Order).

³ See Final Results of Redetermination Pursuant to Court Remand Zhejiang Zhaofeng Mechanical and Electronic Co., Ltd., v. United States, Court No. 18-00004, Slip. Op. 18-182 (CIT December 27, 2018), dated April 25, 2019 (Remand Redetermination).

⁴ See Zhejiang Zhaofeng Mechanical and Electronic Co., Ltd., v. United States, Court No. 18-00004, Slip Op. 19-167 (CIT December 18, 2019).

Timken Notice

In its decision in Timken,⁵ as clarified by Diamond Sawblades,⁶ the United States Court of Appeals for the Federal Circuit (CAFC) held that, pursuant to section 516A(c) and (e) of the Tariff Act of 1930, as amended (the Act), Commerce must publish a notice of a court decision that is not “in harmony” with a Commerce determination and must suspend liquidation of entries pending a “conclusive” court decision. The Court's December 18, 2019 judgment sustaining Commerce's Remand Redetermination constitutes a final decision of the Court that is not in harmony with Commerce's Final Results. This notice is published in fulfillment of the publication requirements of Timken and section 516A of the Act. Commerce will continue the suspension of liquidation of the subject merchandise pending the expiration of the period of appeal, or if appealed, pending a final and conclusive court decision.

⁵ See Timken Co. v. United States, 893 F.2d 337, 341 (Fed. Cir. 1990) (Timken).

⁶ See Diamond Sawblades Mfrs. Coalition v. United States, 626 F. 3d 1374 (Fed. Cir. 2010) (Diamond Sawblades).

Amended Final Results

Because there is now a final court decision, Commerce is amending the Final Results to grant Zhaofeng a separate rate. The separate-rate, weighted-average dumping margin determined for Zhaofeng in the Remand Redetermination is the same as the weighted-average dumping margin that was determined for Zhaofeng in the Final Results, 92.84 percent.

Assessment of Antidumping Duties

In the event the Court's ruling is not appealed or, if appealed, upheld by the CAFC, Commerce will instruct U.S. Customs and Border Protection to assess antidumping duties on unliquidated entries of subject merchandise Zhaofeng exported during the 2015-2016 POR based on the assessment rate equal to the weighted-average dumping margin determined for Zhaofeng by Commerce in these amended final results of review.

Cash Deposit Requirements

As of February 26, 2019, Zhaofeng has a superseding cash deposit rate, because it was assigned a separate rate in a completed administrative review for a more recent period of review of this order.⁷ Because Zhaofeng has a superseding cash deposit rate, we have not revised its cash deposit rate.

⁷ See Tapered Roller Bearings and Parts Thereof, Finished and Unfinished, from the People's Republic of China: Final Results of Antidumping Duty Administrative Review; 2016-2017, 84 FR 6132 (February 26, 2019).

Notifications to Interested Parties

This notice is issued and published in accordance with sections 516A(e), 751(a)(1), and 777(i)(1) of the Act.

Dated: January 10, 2020.
Jeffrey I. Kessler,
Assistant Secretary for Enforcement and Compliance.

[FR Doc. 2020-00643 Filed 1-15-20; 8:45 am]

BILLING CODE 3510-DS-P